DEPARTMENT OF HEALTH AND HUMAN SERVICES

National Institutes of Health

Center for Scientific Review; Cancellation of Meeting

Notice is hereby given of the cancellation of the Center for Scientific Review Special Emphasis Panel, May 26, 2011, 11 a.m. to May 26, 2011, 6 p.m., National Institutes of Health, 6701 Rockledge Drive, Bethesda, MD, 20892 which was published in the Federal Register on April 29, 2011, 76 FR 24036-24038.

The meeting is cancelled due to the applications being withdrawn.

Dated: May 3, 2011.
Jennifer S. Spaeth,
Director, Office of Federal Advisory Committee Policy.

[FR Doc. 2011-11404 Filed 5-9-11; 8:45 am]

BILLING CODE 4140-01-P